GENERAL SERVICES ADMINISTRATION

Privacy Act of 1974; Revised Privacy Act System of Records

AGENCY: General Services Administration.

ACTION: Notice of a revised Privacy Act system of records.

SUMMARY: The General Services Administration (GSA) is publishing a notice of revision to the system of records Emergency Management Records (GSA/HRO-9). The revision includes information on the new vendor that stores emergency management records. The purpose of the revised system is to ensure an up-to-date communication capability by GSA nationwide, and facilitate continuity of critical GSA missions and functions in emergency situations. The system covers all GSA employees and contractors, as well as key governmental and non-governmental persons essential to carrying out emergency functions.

DATES: Effective July 23, 2009.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA reviewed this Privacy Act system of records to ensure that it is relevant, necessary, accurate, up-to-date, and covered by the appropriate legal or regulatory authority. Nothing in the revised system notice indicates a change in authorities or practices regarding the collection and maintenance of information, nor do the changes impact individuals' rights to access or amend their records in the systems of records.

Dated: June 17, 2009.
James L. Atwater,
Director, Information Resources and Privacy Management Division (CIB).

GSA/HRO-9

SYSTEM NAME:

Emergency Management Records (GSA/HRO-9).

SYSTEM LOCATION:

The system is located at the vendor location in the Quest Hosting primary data center located in Glendale, CA. Everbridge Notification Alert & Accountability System (NAAS) is the responsibility of the GSA Office of Emergency Response and Recovery, located at 1800 F Street, NW., Washington, DC 20405. System records are located in the GSA Central Office and regional offices with assigned emergency management responsibilities.

CATEGORIES OF INDIVIDUALS COVERED BY THE SYSTEM:

All GSA employees, contractors, and other key governmental and non-governmental persons essential to carrying out emergency activities or with a need to know of actions taken by GSA in an emergency.

CATEGORIES OF RECORDS IN THE SYSTEM:

The records, composed of emergency notification rosters and files, may consist of paper records and/or electronic databases, including the Emergency Management Information Database (EMID), the Quick Notify database, and continuity of operations (COOP) files. The data is consolidated into a centralized emergency contact database to expedite communication. Personal information in the system records includes name; office, cell, and home telephone numbers; out-of-area contact telephone numbers; home e-mail address; and home fax number. System records also may include special needs information such as medical, mobility, and transportation requirements by individuals. Additional information may include official titles and emergency assignments for individuals in the system.

AUTHORITIES FOR MAINTENANCE:

40 U.S.C. Chapters 1 & 3: Executive Order No. 12656, as amended, Assignment of Emergency Preparedness Responsibilities (Nov. 18, 1988); Directive on National Continuity Policy, 43 Weekly Compilation of Presidential Documents 593 (May 14, 2007).

PURPOSE:

To maintain current information on GSA employees and other persons covered by this system for use by persons with emergency management responsibilities to notify officials, employees, and other affected individuals of conditions that require their urgent attention during a public or personal emergency.

ROUTINE USES OF THE SYSTEM RECORDS, INCLUDING CATEGORIES OF USERS AND THEIR PURPOSES FOR USING THE SYSTEM:

a. In any legal proceeding, where pertinent, to which GSA is a party before a court or administrative body.

b. To a Federal agency in connection with the hiring or retention of an employee; the issuance of a security clearance; the reporting of an investigation; the letting of a contract; or the issuance of a grant, license, or other benefit to the extent that the information is relevant and necessary to a decision.

c. To the Office of Personnel Management (OPM), the Office of Management and Budget (OMB), or the Government Accountability Office (GAO) when the information is required for program evaluation purposes.

d. To a Member of Congress or staff on behalf of and at the request of the individual who is the subject of the record.

e. To an expert, consultant, or contractor of GSA in the performance of a Federal duty to which the information is relevant.

f. To the National Archives and Records Administration (NARA) for records management purposes.

g. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

h. To disclose information to a Federal, State, local, or foreign agency responsible for investigating, prosecuting, enforcing, or carrying out a statute, rule, regulation, or order, where the agency becomes aware of a violation or potential violation of civil or criminal law or regulation.

i. To disclose information to an appeal, grievance, or formal complaints examiner; equal employment opportunity investigator; arbitrator; union official or other official engaged in investigating or settling a grievance, complaint, or appeal filed by an employee.

POLICIES AND PRACTICES FOR STORING, RETRIEVING, ACCESSING, RETAINING, AND DISPOSING OF SYSTEM RECORDS:

STORAGE:

System records are located in the GSA Central Office and regional offices with assigned emergency management responsibilities.

RETRIEVABILITY:

Records may be retrieved by name, organization, location, teleworking capability, or special medical or other health or safety need of an individual.

SAFEGUARDS:

When not in use by an authorized person, the records are secured from unauthorized access. Paper records are placed in lockable file cabinets or in secured areas. Electronic records are protected by passwords, access codes, and other appropriate technical security measures.

RETENTION AND DISPOSAL:

Disposal of system records is according to the Handbook, GSA Records Maintenance and Disposition System (CIO P 1820.1), and the requirements of the National Archives and Records Administration.

SYSTEM MANAGER AND ADDRESS:

The Director, Office of Emergency Response and Recovery, Disaster Support Division, 1800 F Street, NW., Washington, DC 20405. GSA services, staff offices and regions are responsible for the integrity of data within their jurisdictions.

NOTIFICATION PROCEDURE:

Individuals may determine whether the system contains their records by submitting a request to the System Manager or the appropriate Service, Staff Office, or regional official.

RECORDS ACCESS PROCEDURES:

An individual may obtain information on the procedures for gaining access to their records from the System Manager or the appropriate Service, Staff Office, or regional official.

CONTESTING RECORD PROCEDURES:

Individuals wishing to request amendment of their records should contact the System Manager or the appropriate Service, Staff Office, or regional official. GSA rules for contesting the content of a record and appealing an initial decision are in 41 CFR 105-60.

RECORD SOURCES CATEGORIES:

The records contain information provided by the individuals themselves, and it is all voluntary information.

[FR Doc. E9-14639 Filed 6-22-09; 8:45 am]

BILLING CODE 6820-34-P